FEDERAL COMMUNICATIONS COMMISSION

[Report No. 2800]

Petitions for Reconsideration of Action in Rulemaking Proceeding

December 8, 2006.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by January 4, 2007. See Section 1.4(b)(1) of the Commission's rules (47 CFR 1.4(b)(1)). Replies to an opposition must be filed within 10 days after the time for filing oppositions have expired.

Subject: In the Matter of Amendment of Section 73.202(b), Table of Allotments, FM Broadcast Stations (Ashland, Greensburg, and Kingsley, Kansas and Alva, Medford, and Mustang, Oklahoma (MB Docket No. 06-65).

Number of Petitions Filed: 1.

In the Matter of Amendment of Section 73.202(b), Table of Allotments, FM Broadcast Stations (Lone, Oregon; Walla Walla, Washington and Athena, Hermiston, La Grande, and Arlington, Oregon) (MB Docket No. 05-9).

In the Matter of Amendment of Section 73.202(b), Table of Allotments, FM Broadcast Stations (Monument, Oregon; Prairie City, Prineville, and Sisters, Oregon and Weiser, Lebanon, Paisley, and Diamond Lake, Oregon and Goldendale, Washington) (MB Docket No. 05-10).

Number of Petitions Filed: 1.

Marlene H. Dortch,
Secretary.

[FR Doc. E6-21639 Filed 12-19-06; 8:45 am]

BILLING CODE 6712-01-P